DEPARTMENT OF TRANSPORTATION

Federal Aviation Administration

14 CFR Part 39

[Docket No. 2001-SW-07-AD]

RIN 2120-AA64

Airworthiness Directives; Eurocopter France Model AS332C, L, L1, and L2 Helicopters

AGENCY: Federal Aviation Administration, DOT.

ACTION: Supplemental notice of proposed rulemaking; reopening of comment period.

SUMMARY: This document revises an earlier proposed airworthiness directive (AD) for Eurocopter France Model AS332C, L, L1, and L2 helicopters that would have required inspecting the cockpit pedal unit adjustment lever (lever) for a crack at specified time intervals by either a borescope or by a dye-penetrant inspection and replacing any cracked lever with an airworthy lever before further flight. That proposal was prompted by reports of cracks detected in the lever. This action revises the proposed rule by eliminating the borescope inspection and by requiring a modification that is a terminating action for the requirements of the proposal. The actions specified by this proposed AD are intended to prevent failure of the lever, loss of access to the brake pedals on the ground or loss of yaw control in flight, and subsequent loss of control of the helicopter.

DATES: Comments must be received on or before May 6, 2003.

ADDRESSES: Submit comments in triplicate to the Federal Aviation Administration (FAA), Office of the Regional Counsel, Southwest Region, Attention: Rules Docket No. 2001-SW-07-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

The service information referenced in the proposed rule may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas.

FOR FURTHER INFORMATION CONTACT: Jim Grigg, Aviation Safety Engineer, FAA, Rotorcraft Directorate, Rotorcraft Standards Staff, Fort Worth, Texas 76193-0110, telephone (817) 222-5490, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2001-SW-07-AD.” The postcard will be date stamped and returned to the commenter.

Discussion

A proposal to amend 14 CFR part 39 to add an AD for Eurocopter France Model AS332C, L, L1, and L2 helicopters was published as an NPRM in the Federal Register on October 31, 2001 (66 FR 54960). That NPRM would have required inspecting the lever for a crack and replacing any unairworthy lever, P/N 332A27-2344-20, with an airworthy lever. That NPRM was prompted by reports of cracks detected in the lever. That condition, if not corrected, could result in failure of the lever, loss of access to the brake pedals on the ground or loss of yaw control in flight, and subsequent loss of control of the helicopter.

Since the issuance of that NPRM, Eurocopter France has issued new service information that eliminates the borescope inspection and specifies a modification of the pedal unit. Eurocopter Alert Service Bulletin No. 67.00.19, dated July 23, 2001, describes the dye-penetrant inspection of the pedal units, and Eurocopter Alert Service Bulletin No. 67.00.20, dated June 8, 2001, describes replacing the pilot's and co-pilot's pedal adjustment levers. The Direction Generale De L'Aviation Civile, which is the airworthiness authority for France, has classified these alert service bulletins as mandatory and issued AD Nos. 2000-487-017(A)R1 and 2000-486-077(A)R1, both dated September 05, 2001, to ensure the continued airworthiness of these helicopters in France.

We have determined that we should incorporate the latest manufacturer's service information into our proposal, eliminate the proposed borescope inspection, and mandate terminating actions for this unsafe condition. Therefore, since these changes expand the scope of the originally proposed rule, the FAA has determined that it is necessary to reopen the comment period to provide additional opportunity for public comment.

The FAA estimates that 3 helicopters of U.S. registry would be affected by this proposed AD, that it would take approximately 5 work hours to accomplish the dye-penetrant inspection; 5 work hours to remove and replace the pedal unit assembly with a new pedal assembly; or 6 work hours to remove, modify, and replace the modified pedal unit assembly. The average labor rate is $60 per work hour. Required parts would cost approximately $4,990 for replacing a cracked pedal unit assembly with a new pedal unit assembly, or $290 for modifying the installed pedal unit. Based on these figures, the total cost impact of the proposed AD on U.S. operators is estimated to be $16,770 to replace the pedal unit assembly throughout the entire fleet, or $2,730 to modify the pedal unit for the entire fleet, assuming one dye-penetrant inspection regardless of which method of compliance is applicable.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 2001-SW-07-AD.

Applicability: Model AS332C, L, L1, and L2 helicopters, with a pilot or co-pilot anti-torque pedal adjustment lever (lever), part number (P/N) 332A27.2344.20, that has not been modified in accordance with MOD 0726179, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (e) of this AD. The request should include an assessment of the effect of the modification, alteration, or repair on the unsafe condition addressed by this AD; and if the unsafe condition has not been eliminated, the request should include specific proposed actions to address it.

Compliance: Required as indicated, unless accomplished previously.

To prevent failure of the lever, loss of braking ability on the ground or loss of yaw control in flight, and subsequent loss of control of the helicopter, accomplish the following:

(a) For helicopters with 4,450 or more hours time-in-service (TIS), within 50 hours TIS and thereafter at intervals not to exceed 1,500 hours TIS, perform a dye-penetrant inspection of the lever, P/N 332A27.2344.20, in accordance with paragraph 2.B. of the Accomplishment Instructions in Eurocopter Alert Service Bulletin (ASB) No. 67.00.19, dated July 23, 2001, except returning levers and reporting to the manufacturer are not required.

(b) For helicopters with less than 4,450 hours TIS, on or before accumulating 4,500 hours TIS, and thereafter at intervals not to exceed 1,500 hours TIS, perform a dye-penetrant inspection of the lever, P/N 332A27.2344.20, in accordance with paragraph 2.B. of the Accomplishment Instructions in ASB No. 67.00.19, dated July 23, 2001, except returning levers and reporting to the manufacturer are not required.

(c) Replace any cracked lever with an airworthy lever before further flight.

(d) Before June 5, 2003, modify the pedal unit and replace the adjustment levers in accordance with the Accomplishment Instructions, Paragraph 2, in ASB No. 67.00.20, dated June 8, 2001. Modifying the pedal unit and replacing the adjustment levers in accordance with ASB 67.00.20, dated June 8, 2001, is a terminating action for the requirements of this AD.

(e) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(f) Special flight permits will not be issued.

Note 3: The subject of this AD is addressed in Direction Generale De L'Aviation Civile (France) AD Nos. 2000-487-017(A)R1 and 2000-486-077(A)R1, both dated September 5, 2001.

Issued in Fort Worth, Texas, on February 20, 2003.
Eric Bries,
Acting Manager, Rotorcraft Directorate, Aircraft Certification Service.

[FR Doc. 03-5250 Filed 3-6-03; 8:45 am]

BILLING CODE 4910-13-P